DEPARTMENT OF TRANSPORTATION

Federal Highway Administration

Environmental Impact Statement: Valley County, Idaho

AGENCY: Federal Highway Administration (FHWA), DOT.

ACTION: Notice of Intent.

SUMMARY: The Federal Highway Administration is issuing this notice of intent to advise the public that an environmental impact statement will be prepared for a proposed highway project in Valley County, Idaho.

FOR FURTHER INFORMATION CONTACT: Loren D. Thomas, District Engineer, District 3, Idaho Transportation Department (ITD), 8150 Chinden Blvd., Boise, Idaho 83707, Telephone (208) 334-8300,

or

Jack T. Coe, Division Administrator, Federal Highway Administration, 3050 Lake Harbor Lane, Suite 126, Boise, Idaho, 83703, Telephone: 208-334-1843.

SUPPLEMENTARY INFORMATION: The FHWA in cooperation with the ITD will prepare an environmental impact statement (EIS) on a proposal to improve State Highway 55 (SH-55) in Valley County, Idaho. The proposed improvements would involve seven miles of existing SH-55 from approximately 4 miles south of Smith's Ferry (Milepost 95) to Round Valley (Milepost 102).

The improvements on State Highway 55 are considered necessary to improve safety, increase capacity, accommodate economic development, and correct operational deficiencies in the roadway.

Alternatives under consideration include: (1) taking no action; (2) improving the existing two-lane highway along the North Fork of the Payette River; (3) constructing a two or four lane rural highway on new alignment. Incorporated into and studied with the various build alternatives will be design variations of grade and alignment.

Letters describing the proposed action and soliciting comments will be sent to the appropriate Federal, State, and local agencies and citizens who have previously expressed interest in this proposed project. Scoping will begin with the publication of the Notice of Intent. As part of the scoping process, a series of public information meetings will be held in Valley County beginning in February 2000. In addition, a public hearing will be held. Public notice will be given of the time and place of any public information meetings and the public hearing. The draft EIS will be made available for public and agency review and comment.

To ensure that the full range of issues related to this proposed action are addressed and all significant issues are identified, comments and suggestions are invited from all interested parties.

Comments or questions concerning this proposed action and the EIS should be directed to the ITD or FHWA at the addresses provided above.

Authority: 23 U.S.C. 315; 23 CFR 771.123.

Issued on: January 13, 2000.
Pamela S. Cooksey,
Assistant Division Administrator, Federal Highway Administration, Boise, Idaho.

[FR Doc. 00-1616 Filed 1-21-00; 8:45 am]

BILLING CODE 4910-22-M